DEPARTMENT OF ENERGY

Federal Energy Regulatory Commission

[Docket Nos. CP17-117-001; CP17-118-001]

Driftwood LNG LLC, Driftwood Pipeline LLC; Notice of Request for Extension of Time

Take notice that on October 4, 2023, Driftwood LNG LLC (Driftwood LNG) and Driftwood Pipeline LLC (Driftwood Pipeline) (collectively, Driftwood) requested that the Federal Energy Regulatory Commission (Commission) grant an extension of time (2023 Extension of Time Request) of an additional 36 months to construct and operate facilities for liquefaction and export of natural gas in Calcasieu Parish, Louisiana (LNG Terminal and Pipeline Project, respectively) authorized by the Commission in Docket Nos. CP17-117-000 and CP17-118-000.¹ On April 18, 2019, the Commission issued an Order Granting Authorization Under Sections 3 and 7 of the Natural Gas Act, which stipulated Driftwood fully construct and make available facilities for service within seven years of the date of the Order.

¹ Driftwood LNG LLC & Driftwood Pipeline LLC, 167 FERC ¶ 61,054 (2019) (Order).

In its 2023 Extension of Time Request, Driftwood states, despite significant progress with construction of the Project, it has encountered unforeseen circumstances in recent years that are preventing it from meeting the Commission's in-service deadline for the liquefied natural gas (LNG) Terminal and associated Pipeline Project. Driftwood cites the global upheaval stemming from the COVID-19 pandemic caused cascading market and logistical impacts on workforce, safety, supply chain, and investment in infrastructure projects; ² these circumstances caused unforeseeable difficulties for LNG project development and made securing long-term LNG commercial commitments difficult over the last several years. Driftwood requests that the Commission grant a 36-month extension of time so that it has the required time to: (i) receive its long lead manufactured equipment, which cannot be manufactured and delivered to the site in time to meet the current deadline; (ii) install the equipment and construct the remaining facilities; and (iii) continue to attract and secure customers and financing.

² Driftwood points to a legal challenge to its U.S. Army Corps of Engineers permit that created difficulties with respect to Driftwood's ability to secure final commercial and financial commitments for the Project. However, the U.S. Court of Appeals for the Fifth Circuit recently issued a decision denying the petition for review filed by Healthy Gulf and the Sierra Club. Healthy Gulf v. U.S. Army Corps of Eng'rs, 2023 WL 5742541 (5th Cir. Sept. 6, 2023).

This notice establishes a 15-calendar day intervention and comment period deadline. Any person wishing to comment on Driftwood's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (NGA) (18 CFR 157.10).

As a matter of practice, the Commission itself generally acts on requests for extensions of time to complete construction for NGA facilities when such requests are contested before order issuance. For those extension requests that are contested,³ the Commission will aim to issue an order acting on the request within 45 days.⁴ The Commission will address all arguments relating to whether the applicant has demonstrated there is good cause to grant the extension.⁵ The Commission will not consider arguments that re-litigate the issuance of the certificate order, including whether the Commission properly found the project to be in the public convenience and necessity and whether the Commission's environmental analysis for the certificate complied with the National Environmental Policy Act.⁶ At the time a pipeline requests an extension of time, orders on certificates of public convenience and necessity are final and the Commission will not re-litigate their issuance.⁷ The OEP Director, or his or her designee, will act on all of those extension requests that are uncontested.

³ Contested proceedings are those where an intervenor disputes any material issue of the filing. 18 CFR 385.2201(c)(1) (2022).

⁴ Algonquin Gas Transmission, LLC, 170 FERC ¶ 61,144, at P 40 (2020).

⁵ Id. at P 40.

⁶ Similarly, the Commission will not re-litigate the issuance of an NGA section 3 authorization, including whether a proposed project is not inconsistent with the public interest and whether the Commission's environmental analysis for the permit order complied with NEPA.

⁷ Algonquin Gas Transmission, LLC, 170 FERC ¶ 61,144, at P 40 (2020).

In addition to publishing the full text of this document in the Federal Register, The Commission provides all interested persons an opportunity to view and/or print the contents of this document via the internet through the Commission's Home Page (http://www.ferc.gov) using the “eLibrary” link. Enter the docket number excluding the last three digits in the docket number field to access the document. At this time, the Commission has suspended access to the Commission's Public Reference Room. For assistance, contact FERC at FERCOnlineSupport@ferc.gov or call toll-free, (886) 208-3676 or TTY, (202) 502-8659.

The Commission strongly encourages electronic filings of comments, protests and interventions in lieu of paper using the “eFiling” link at http://www.ferc.gov. Persons unable to file electronically should submit an original and three copies of the protest or intervention to the Federal Energy Regulatory Commission, 888 First Street NE, Washington, DC 20426.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Comment Date: 5:00 p.m. Eastern Time on, October 26, 2023.

Dated: October 11, 2023.
Kimberly D. Bose,
Secretary.

[FR Doc. 2023-22887 Filed 10-16-23; 8:45 am]

BILLING CODE 6717-01-P